DEPARTMENT OF EDUCATION

A National Dialogue: The Secretary of Education's Commission on the Future of Higher Education; Notice of Establishment

AGENCY: Office of the Secretary, Department of Education.

ACTION: Notice of establishment of A National Dialogue: The Secretary of Education's Commission on the Future of Higher Education.

SUMMARY: The Secretary of Education announces her intention to establish A National Dialogue: The Secretary of Education's Commission on the Future of Higher Education (Commission). The Federal Advisory Committee Act (Pub. L. 92-463 as amended; 5 U.S.C.A. Appendix 2) will govern the Commission.

Purpose: The Secretary has determined that the establishment of this Commission is necessary and in the public's interest. Today, higher education in the United States encompasses a wide array of educational opportunities and programs. Students attend institutions of higher education offering programs that range from baccalaureate and advanced degrees to occupational training of less than one year. The Higher Education Act of 1965, as amended, has benefited millions of students by making higher education more affordable as well as by ensuring its quality. As we look to the future, it is imperative that we maintain a system of higher education that meets the needs of our diverse population, and in particular the needs of traditionally underserved communities; provides enhanced opportunities for lifelong learning; and addresses the economic and workforce needs of the country.

In particular, the country is encountering a significant change to its economic structure, resulting in unmet workforce needs. This is particularly true with respect to highly skilled workers and in the fields of mathematics and science. The need is clear and unavoidable: only 68 out of 100 entering 9th graders graduate from high school on time. Yet, 80 percent of our fastest-growing jobs will require some higher education. As the need for highly skilled workers continues to grow, institutions of higher education must assess whether they are providing the necessary coursework and incentives that will enable American students to compete in the new global economy.

The purpose of this Commission is to consider how best to improve our system of higher education, to ensure that our graduates are well prepared to meet our future workforce needs and are able to participate fully in the changing economy. To accomplish this purpose, the Commission shall consider Federal, State, local, and institutional roles in higher education and analyze whether the current goals of higher education are appropriate and achievable. By August 1, 2006, the Commission will provide its written recommendations to the Secretary.

The Commission will be composed of no more than 20 representatives appointed by the Secretary from the public and private sectors, as well as up to 5 ex officio members from the Department of Education and other Federal agencies. These representatives shall include former or current public and private college presidents, and may also include former elected officials, representatives of Fortune 500 corporations, the financial services industry, for-profit education companies, nonprofit education foundations, higher education researchers, and other such group representatives as the Secretary deems appropriate. As representatives, the members will speak for the groups of persons they represent, drawing on their personal experiences as members of these groups with respect to these issues.

FOR FURTHER INFORMATION CONTACT: Cheryl Oldham, Executive Director, A National Dialogue: The Secretary of Education's Commission on the Future of Higher Education, U.S. Department of Education, 400 Maryland Avenue, SW., Washington, DC 20202. Telephone: (202) 205-5233.

Dated: September 23, 2005.
Margaret Spellings,
Secretary, Department of Education.

[FR Doc. 05-19465 Filed 9-28-05; 8:45 am]

BILLING CODE 4000-01-M